FEDERAL COMMUNICATIONS COMMISSION

Notice of Public Information Collection(s) Being Reviewed by the Federal Communications Commission; Comments Requested

November 1, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number.

Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 12, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0950.

Title: Extending Wireless Telecommunications Services to Tribal Lands, WT Docket No. 99-266.

Form No.: FCC Form 601.

Type of Review: Extension of currently approved collection.

Respondents: Business or other for-profit, not-for-profit institutions, state, local or tribal governments.

Number of Respondents: 3,844.

Estimated Time Per Response: 10-190 hours.

Frequency of Response: Recordkeeping requirement, on occasion reporting requirement.

Total Annual Burden: 768,800 hours.

Total Annual Cost: N/A.

Needs and Uses: The Commission adopted WT Docket No. 99-266, Report and Order, which implemented rules and policies to encourage the deployment of wireless services to tribal lands.

A winning bidder seeking a bidding credit to serve a qualifying tribal land within a particular market must: Indicate on the FCC Form 601 that it intends to serve a qualifying tribal land within that market; within 90 days after the filing deadline, amend its FCC Form 601 and attach a certification from the tribal government stating that: (a) The tribal government authorizes the winning bidder to site facilities and provide service on its tribal land; (b) the tribal area to be served by the winner bidder constitutes qualifying tribal land; and (c) the tribal government has not and will not enter into an exclusive contract with the applicant precluding entry by other carriers, and will not unreasonably discriminate among wireless carriers seeking to provide service on the qualifying land. The winning bidder must also meet additional requirements.

The information will be used to ensure that tribal communities within federally-recognized tribal areas have access to wireless telecommunications services equivalent to that of the nation.

OMB Control No.: 3060-0600.

Title: Application to Participate in a FCC Auction.

Form No.: FCC Form 175.

Type of Review: Extension of currently approved collection.

Respondents: Business or other for-profit, not-for-profit institutions, state, local or tribal governments.

Number of Respondents: 11,000.

Estimated Time Per Response: .25 hours.

Frequency of Response: On occasion reporting requirement.

Total Annual Burden: 2,750 hours.

Total Annual Cost: N/A.

Needs and Uses: This information collection allows the Commission to ascertain whether or not applicants for spectrum have ever been in default on any Commission licenses or have ever been delinquent on any non-tax debt owed to a Federal agency. The information will allow the Commission to determine the amount of the up-front payment to be paid by each applicant and will help ensure that auctions are conducted fairly and efficiently, thereby speeding the flow of payments to the U.S. Treasury and accelerating the provision of wireless service to the public.

OMB Control No.: 3060-0621.

Title: Rules and Requirements for C & F Block Broadband PCS Licenses.

Form No.: FCC Form 175.

Type of Review: Extension of currently approved collection.

Respondents: Individuals or households, business or other for-profit, not-for-profit institutions, state, local or tribal governments.

Number of Respondents: 3,000.

Estimated Time Per Response: .50-20 hours.

Frequency of Response: Recordkeeping requirement, on occasion reporting requirement.

Total Annual Burden: 14,044 hours.

Total Annual Cost: N/A.

Needs and Uses: The Commission's rules require applicants for C & F block broadband PCS Licenses to file information so that the Commission can determine whether the applicants are legally, technically and financially qualified to be licensed and to determine whether applicants claiming different eligibility status are entitled to certain benefits.

OMB Control No.: 3060-0624.

Title: Amendment of the Commission's Rules to Establish New Personal Communications Services, section 24.103(f).

Form No.: FCC Forms 601 and 603.

Type of Review: Extension of currently approved collection.

Respondents: Individuals or households, business or other for-profit, not-for-profit institutions, state, local or tribal governments.

Number of Respondents: 39 respondents; 16 responses.

Estimated Time Per Response: 250 hours.

Frequency of Response: On occasion reporting requirement and five and ten year reporting requirements.

Total Annual Burden: 7,700 hours.

Total Annual Cost: N/A.

Needs and Uses: The information collection requires all narrowband PCS licensees, except for paging response channel licensees, to file materials that show their compliance with the construction requirements of this service. These requirements were adopted to ensure that licensees timely construct their systems and that their systems serve significant areas. This information is used by licensing personnel in the Wireless Telecommunications Bureau to ensure that the spectrum is being utilized effectively.

OMB Control No.: 3060-0767.

Title: Auction Forms and License Transfer Disclosures—Supplement for the Second Report and Order, Order on Reconsideration, and Fifth Notice of Proposed Rulemaking in CC Docket No. 92-297.

Form No.: N/A.

Type of Review: Extension of currently approved collection.

Respondents: Individuals or households, business or other for-profit, not-for-profit institutions, state, local or tribal governments.

Number of Respondents: 22,000.

Estimated Time Per Response: .25-3.75 hours.

Frequency of Response: Recordkeeping requirement, third party disclosure requirement, on occasion reporting requirement.

Total Annual Burden: 762,000 hours.

Total Annual Cost: $45,333,000.

Needs and Uses: The Commission's rules require that small business applicants submit ownership information and gross revenue calculations, and all applicants must submit joint bidding agreements. In the case of default, the FCC retains the discretion to re-auction such licenses. Finally, licensees transferring licenses within three years are required to maintain a file of all documents and contracts pertaining to the transfer. Certification is required for entities dropping out of auction to secure certain ownership interests in participants. The information is used to ensure that applicants are qualified to participate in Commission auctions and to ensure that license winners are entitled to receive small business preferences.

OMB Control No.: 3060-0779.

Title: Amendment to part 90 of the Commission's Rules to Provide for Use of the 220-222 MHz Band by the Private Land Mobile Radio Service, PR Docket No. 89-552.

Form No.: FCC Form 601.

Type of Review: Extension of currently approved collection.

Respondents: Individuals or households, business or other for-profit, not-for-profit institutions, state, local or tribal governments.

Number of Respondents: 27,062 respondents; 31,467 responses.

Estimated Time Per Response: 1-50 hours.

Frequency of Response: Third party disclosure requirement, on occasion reporting requirement.

Total Annual Burden: 112,450 hours.

Total Annual Cost: $28,490,000.

Needs and Uses: This collection includes rules to govern the future operation and licensing of the 220-222 MHz band (220 MHz service). In establishing this licensing plan, the FCC's goal is to establish a flexible regulatory framework that allows for efficient licensing of the 220 MHz service, eliminates unnecessary regulatory burdens, and enhances the competitive potential of the 220 MHz service in the mobile service marketplace. However, as with any licensing and operational plan for radio service, a certain number of regulatory and information burdens are necessary to verify licensee compliance with FCC rules.

OMB Control No.: 3060-0914.

Title: Petition, Pursuant to section 7 of the Act, for a Waiver of the Airborne Cellular Rule, or, in the Alternative, for a Declaratory Ruling.

Form No.: N/A.

Type of Review: Extension of currently approved collection.

Respondents: Business or other for-profit, federal government, state, local or tribal governments.

Number of Respondents: 30.

Estimated Time Per Response: 8 hours.

Frequency of Response: Recordkeeping requirement, on occasion reporting requirement.

Total Annual Burden: 240 hours.

Total Annual Cost: N/A.

Needs and Uses: The Commission resets a waiver of section 22.925 of the Commission's rules in order to permit AirCell and a number of cellular licensees who, jointly entered into resale agreements with AirCell, to furnish system capacity for the provision of cellular service on a secondary, conditional basis to airborne terminal units using AirCell-developed technology for a period of two years. The waiver will allow airborne use of cellular telephones.

Magalie Roman Salas,
Secretary.

[FR Doc. 00-28891 Filed 11-9-00; 8:45 am]

BILLING CODE 6712-01-P